POSTAL RATE COMMISSION

Postal Data Systems Briefing

AGENCY: Postal Rate Commission.

ACTION: Notice of official briefing.

SUMMARY: In a letter of August 7, 2001, the Postal Service notified the Commission of planned changes in the Revenue, Pieces and Weight (RPW) reporting system. The new approach, referred to as Characteristics RPW (CRPW), will rely on mailpiece characteristics rather than data collectors' knowledge for assigning the mailpiece to a rate category. This change, which is to be implemented beginning in Postal Quarter 1, FY 2002, appears designed to rectify nonsampling errors associated with the current system. The Service will provide a technical briefing on the change on Friday, September 21, 2001, at 11 a.m., in the Commission's hearing room, 1333 H, Street NW., Washington, DC. This briefing is open to the public.

DATES: Friday, September 21, 2001.

FOR FURTHER INFORMATION CONTACT: Stephen L. Sharfman, General Counsel, 202-789-6820.

Steven W. Williams,
Acting Secretary.

[FR Doc. 01-23541 Filed 9-20-01; 8:45 am]

BILLING CODE 7710-FW-M